SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: February 1-29, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above: Grandfathering Registration Under 18 CFR part 806, subpart E:

1. Elmhurst Country Club, GF Certificate No. GF-202002083, Roaring Brook Township, Lackawanna County, Pa.; Wells 1 and 2; Issue Date: February 3, 2020.

2. Weaverland Valley Authority—Terre Hill Water System, GF Certificate No. GF-202002084, Terre Hill Borough and East Earl Township, Lancaster County, Pa.; Wells 1 and 3; Issue Date: February 3, 2020.

3. Williamsport Country Club Inc.—Williamsport Country Club, GF Certificate No. GF-202002085, Loyalsock Township, Lycoming County, Pa.; Wells 1 and 2, and consumptive use; Issue Date: February 18, 2020.

4. Town of Kirkwood—Public Water Supply System, GF Certificate No. GF-202002086, Town of Kirkwood, Broome County, N.Y.; Well 1; Issue Date: February 24, 2020.

5. Pennsylvania Fish & Boat Commission—Bellefonte State Fish Hatchery, GF Certificate No. GF-202002087, Benner Township, Centre County, Pa.; the Spring, and Wells 1 and 2; Issue Date: February 24, 2020.

6. Pennsylvania Fish & Boat Commission—Benner Spring State Fish Hatchery, GF Certificate No. GF-202002088, Benner Township, Centre County, Pa.; Benner Spring and Spring Creek; Issue Date: February 24, 2020.

7. Tunkhannock Borough Municipal Authority—Public Water Supply System, GF Certificate No. GF-202002089, Tunkhannock Borough, Wyoming County, Pa.; Well 1 (Hill Well 1) and Well 4 (Ravine); Issue Date: February 24, 2020.

(Authority: Pub. L. 91-575, 84 Stat. 1509 et seq., 18 CFR parts 806 and 808)

Dated: March 16, 2020.
Jason E. Oyler,
General Counsel and Secretary to the Commission.

[FR Doc. 2020-05877 Filed 3-19-20; 8:45 am]

BILLING CODE 7040-01-P